DEPARTMENT OF THE INTERIOR

Fish and Wildlife Service

Preparation of a Supplemental Environmental Impact Statement/Environmental Impact Report in Support of an Application for the Issuance of an Incidental Take Permit to the Imperial Irrigation District, Imperial County, California

AGENCY: Fish and Wildlife Service, Interior.

ACTION: Notice of intent.

SUMMARY: Pursuant to the National Environmental Policy Act (NEPA), the Fish and Wildlife Service (Service) advises the public that we intend to gather information necessary to prepare a Supplemental Environmental Impact Statement/Environmental Impact Report (EIS/EIR) for the consideration of a Habitat Conservation Plan and application for an incidental take permit, pursuant to section 10(a)(1)(B) of the Endangered Species Act of 1973 as amended (ESA), including consideration of conservation measures for State-listed species to address the effects of the conservation and transfer of water from Imperial Irrigation District (IID) to the San Diego County Water Authority (SDCWA) and Coachella Valley Water District (CVWD). The Habitat Conservation Plan will cover a broad array of activities including: water conservation, water conveyance and drainage, operation and maintenance of the water conveyance system, system improvements, miscellaneous activities, and third party activities required to achieve the conservation and transfer of up to 200,000 acre-feet of water per year to the SDCWA and 100,000 acre-feet per year to the CVWD, and to meet the voluntary cap on IID's water use of 3.1 million acre-feet per year from the Colorado River. The IID (Applicant) intends to request an incidental take permit for up to 96 listed and unlisted species of concern under specific provisions of the permit. In the case of unlisted species, the permit would provide coverage should these species be listed in the future.

The Service provides this notice pursuant to the Council on Environmental Quality Regulations for Implementing the Procedural Provisions of the NEPA. The purpose of the Supplemental EIS/EIR is to provide any additional environmental assessment required to evaluate additions and changes to the Water Conservation and Transfer Project (Project) that have occurred since the approval of the Final EIS/EIR by the Bureau of Reclamation (Federal lead agency for the Project) and to support the application for an incidental take permit pursuant to section 10(a)(1)(B) of the ESA by the Service. The Service is seeking suggestions and information from other agencies, affected tribes, and the public on the scope of issues to be considered in preparation of the Supplemental EIS/EIR. To satisfy both Federal and State environmental policy requirements, the Service as Federal lead agency and the IID as State lead agency under the California Environmental Quality Act (CEQA) are conducting this joint scoping process for the preparation of the supplemental environmental document.

DATES: The Service requests all scoping comments on this notice be received on or before September 5, 2006.

ADDRESSES: Written comments should be addressed to Ms. Therese O'Rourke, Assistant Field Supervisor, Fish and Wildlife Service, 6010 Hidden Valley Road, Carlsbad, California 92011. You may also send comments by facsimile to telephone 760-431-5902.

FOR FURTHER INFORMATION CONTACT: Ms. Carol Roberts, Division Chief/Salton Sea Coordinator, at the above address, or by phone at 760-431-9440.

SUPPLEMENTARY INFORMATION: IID is a customer-owned utility that provides irrigation water and power to the lower southeastern portion of the California desert. IID was established in 1911 to deliver Colorado River water to lands within the Imperial Valley, California, for agricultural, domestic, industrial, and other beneficial uses. IID maintains a complex system of delivery canals, laterals, and drains that serve over 450,000 acres of intensive agriculture. Agricultural drainage flows into the New and Alamo Rivers and into the Salton Sea, a designated repository for agricultural drainage.

On April 29, 1998, IID and SDCWA executed an agreement for the conservation and transfer of up to 300,000 acre-feet of Colorado River water per year from IID to SDCWA. Subsequent negotiations with other Colorado River water rights holders in California resulted in the transfer amount to SDCWA being reduced to a maximum of 200,000 acre-feet per year with the other 100,000 acre-feet per year going to the CVWD under the Quantification Settlement Agreement. As part of this agreement, IID is implementing a conservation program that includes the participation of Imperial Valley landowners and tenants so that on-farm as well as system-based conservation can be implemented to achieve the required level of conservation. This transfer is a key part of the California 4.4 Plan that will result in California water agencies using only their 4.4 million acre-foot apportionment of the Colorado River. California has been diverting up to 5.2 million acre-feet of Colorado River water per year.

IID, as the CEQA lead agency, and the Bureau of Reclamation, as the NEPA lead agency, jointly issued a Draft EIR/EIS for the Project dated January 2002. The Bureau of Reclamation prepared and filed with the Environmental Protection Agency an integrated Final EIR/EIS dated October 2002. Prior to the Secretary of the Interior's issuance of a Record of Decision on October 10, 2003, relating to the Federal actions associated with the Project, the Bureau of Reclamation approved an Environmental Evaluation dated October 2003 that evaluated certain changes to the Project subsequent to their Final EIR/EIS.

A joint Supplemental EIS/EIR is being prepared on behalf of the Service and IID to address the impacts associated with permit issuance for the covered activities included in the Habitat Conservation Plan. The consulting firm, CH2MHill has been selected to prepare the document. Additional information on the previously approved Project may be found in the Bureau of Reclamation's project documents including the amended Notice of Intent published at 65 FR 66557 (November 6, 2000), the Notice of Availability for the Draft Environmental Impact Report/Environmental Impact Statement (67 FR 3732, January 25, 2002), and the Notice of Availability for the Final Environmental Impact Report/Environmental Impact Statement (67 FR 68165, November 8, 2002), and the Draft and Final EIR/EISs themselves.

Section 9 of the ESA and the Service regulations prohibit “take” of threatened or endangered fish and wildlife (16 U.S.C. 1538). Take means harass, harm, pursue, hunt, shoot, wound, kill, trap, capture, or collect listed animal species, or attempt to engage in such conduct (16 U.S.C. 1532). Harm may include significant habitat modification that actually kills or injures fish and/or wildlife by significantly impairing essential behavior patterns including breeding, feeding, and sheltering [50 CFR 17.3(c)]. The Service, however, may issue permits to take endangered and/or threatened species of fish and wildlife incidental to, and not the purpose of, otherwise lawful activities [50 CFR 17.22 and 17.32]. Take authorization addressing water conservation and transfer activities for the federally-listed species only was previously provided through the Service's Biological Opinion on the Bureau of Reclamation's Voluntary Fish and Wildlife Conservation Measures and Associated Conservation Agreements with the California Water Agencies.

Take of listed plant species is not prohibited under the ESA and cannot be authorized under an incidental take permit. We propose to include plant species on the permit in recognition of the conservation benefits provided for them under the plan. All species included on the permit would receive assurances under the Service's “No Surprises” regulation [50 CFR 17.22(b)(5) and 17.32(b)(5)].

We propose to issue a permit to IID authorizing the take of listed species to the otherwise lawful conservation and transference of up to 200,000 acre-feet of Colorado River water per year to the SDCWA, conservation and transference of up to 100,000 acre-feet of Colorado River water per year to the CVWD, additional conservation necessary to achieve IID's cap of 3.1 million acre-feet per year on their use of Colorado River water, and operations and maintenance activities required to keep the water conveyance and drainage system functioning within the approximately 450,000 acres of agriculture in their Imperial Valley water service area.

The permit application will include a Habitat Conservation Plan and an Implementing Agreement that define the responsibilities of all parties under the Plan. IID's Habitat Conservation Plan will include measures to minimize and mitigate impacts to covered species resulting from the covered activities. These measures are provided in a suite of conservation strategies designed to address the various vegetation communities and aquatic habitats used by covered species in the Plan area. In the Supplemental EIS/EIR we will consider IID's proposed Habitat Conservation Plan (Proposed Action Alternative) and the No Action Alternative (no permit issuance). The Bureau of Reclamation's Draft and Final EIR/EIS previously considered the impacts of a range of water conservation and transfer alternatives on federally listed species. The Supplemental EIS/EIR will address specific changes that have been incorporated since the issuance of the Bureau of Reclamation's Final EIR/EIS and any anticipated changes in environmental impacts on biological resources, land use, air quality, water quality, and other environmental resources that could occur directly or indirectly with the implementation of the Habitat Conservation Plan.

Currently, the IID intends to request a permit authorizing the incidental take of 86 animal species including the following nine federally listed species: desert pupfish (Cyprinodon macularius), razorback sucker (Xyrauchen texanus), desert tortoise (Gopherus agassizii), bald eagle (Haliaeetus leucocephalis), southwestern willow flycatcher (Empidonax traillii extimus), brown pelican (Pelecanus occidentalis), Yuma clapper rail (Rallus longirostris yumanensis), California least tern (Sterna antillarum browni), and least Bell's vireo (Vireo bellii pusillus). The permit also would cover ten plant species including one federally listed species, Peirson's milk-vetch (Astragalus magdalenae var. peirsonii). We will evaluate the permit application, the Habitat Conservation Plan, Implementing Agreement, Supplemental EIS/EIR, associated documents, and comments submitted thereon to determine whether the application meets the requirements of section 10(a)(1)(B) of the ESA. If we determine that the requirements have been met, we will issue a permit for the incidental take of covered listed species.

Environmental review of the Supplemental EIS/EIR will be conducted in accordance with the requirements of NEPA (42 U.S.C. 4321 et seq.), its implementing regulations (40 CFR parts 1500-1508), other applicable regulations, and Service procedures for compliance with those regulations. We are publishing this notice pursuant to section 10(a) of the ESA and Service regulations for implementing the NEPA (40 CFR 1501.7). The purpose of this notice is to obtain suggestions and information from other agencies, affected tribes, and the public regarding the proposed action. Written comments are invited to ensure that the full range of issues related to the proposed action is identified. All comments received, including names and addresses, will become part of the official administrative record and may be made available to the public.

Dated: July 31, 2006.
Ken McDermond,
Deputy Manager, California/Nevada Operations Office, Sacramento, California.

[FR Doc. E6-12593 Filed 8-3-06; 8:45 am]

BILLING CODE 4310-55-P